DEPARTMENT OF VETERANS AFFAIRS

Professional Certification and Licensure Advisory Committee; Notice of Meeting

The Department of Veterans Affairs (VA) gives notice under Public Law 92-463 (Federal Advisory Committee Act) that the Professional Certification and Licensure Advisory Committee will meet at the Department of Veterans Affairs, Veterans Benefit Administration Conference Room 542, 1800 G St., NW, Washington, DC, on Monday, December 10, 2001, from 8:30 a.m. to 4 p.m., and from 8:30 a.m. to 12 p.m. on Tuesday, December 11, 2001. The agenda for this inaugural meeting will include overview of VA policies concerning approval of licensing and certification testing. The majority of this initial meeting will be dedicated to determining the functions of the Committee. Established by Public Law 106-419, the purpose of the Committee is to provide advice and counsel to the Secretary of Veterans Affairs on matters regarding the requirements of organizations or entities offering licensing and certification tests taken by individuals entitled to payment under VA's education and training programs and on related issues as the Committee determines is appropriate. Those planning to attend this open meeting should contact Ms. Lynn M. Cossette or Mr. William G. Susling at (202) 273-7187 by November 30, 2001.

Dated: November 15, 2001.
By Direction of the Secretary:
Nora E. Egan,
Committee Management Officer.

[FR Doc. 01-29202 Filed 11-21-01; 8:45 am]

BILLING CODE 8320-01-M